DEPARTMENT OF HEALTH AND HUMAN SERVICES

Centers for Disease Control and Prevention

[60Day-17-17ACY; Docket No. CDC-2017-0041]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. As part of a Broad Agency Announcement (BAA) issued for the competitive selection of research proposals, this notice invites comment on the proposed information collection project titled “Applied Research to Address Emerging Public Health Priorities.”

DATES: Written comments must be received on or before August 25, 2017.

ADDRESSES: You may submit comments, identified by Docket No. CDC-2017-0041 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Applied Research to Address Emerging Public Health Priorities—New—National Center for Emerging and Zoonotic Infectious Diseases (NCEZID), Centers for Disease Control and Prevention (CDC).

Background and Brief Description

On March 27, 2017, CDC issued a Broad Agency Announcement (FY2017-OADS-01) available at https://www.fbo.gov/spg/HHS/CDCP/PGOA/FY2017-OADS-01/listing.html. There is potential for standardized information collection attached to a limited number of awarded projects. For those projects, a 30-day notice will be published in the Federal Register and information collection requests will be submitted to OMB for approval. This Federal Register notice is intended to broadly inform the public of CDC's intent to contract with researchers to carry out a variety of different research projects awarded through this announcement.

For this announcement, CDC has identified the following research areas of interest. Interested parties are invited to consider innovative approaches to support advanced research and development strategies in the following research areas of interest:

1. New diagnostic, sequencing and metagenomic tools for antibiotic detection and improved antibiotic use

2. International Transmission, colonization, and prevention of antibiotic resistance (AR) pathogens

3. Domestic transmission, colonization, and prevention of antibiotic resistance pathogens and Clostridium difficile infections (CDI)

4. Microbiome disruption

5. Antibiotic resistance pathogens and genes in water systems and the environment and their contribution to human infections

6. Medication safety and antibiotic stewardship

7. Improving the timeliness, accuracy, and usability of public health emergency management, surveillance and survey information data

Contracts that are awarded based on responses to this BAA are as a result of full and open competition and therefore in full compliance with the provisions of PL 98-369, “The Competition in Contracting Act of 1984.” CDC contracts with educational institutions, nonprofit organizations, state and local government, and private industry for research and development (R&D) in those areas covered in this BAA.

The public is invited to look at the BAA online for greater detail and more specific research areas falling under the seven topics listed above.

Authorizing legislation comes from Section 301 of the Public Health Service Act. Responses will be voluntary and it is not expected that there will be any cost to respondents other than the time to participate in information collection.

The total estimated burden for all of the information collections is not expected to exceed 1,500 hours (100 hours of burden for a maximum of 15 potentially PRA-applicable contracts).

Estimated Annualized Burden Hours
Type of respondents | Form name | Number of respondents | Number of responses per respondent | Average burden per response (in hrs.) | Total burden (in hrs.)
Public | Information Collection | 150 | 1 | 1 | 1,500
Total |  |  |  |  | 1,500

Leroy A. Richardson,
Chief, Information Collection Review Office, Office of Scientific Integrity, Office of the Associate Director for Science, Office of the Director, Centers for Disease Control and Prevention.

[FR Doc. 2017-13320 Filed 6-23-17; 8:45 am]

BILLING CODE 4163-18-P